DEPARTMENT OF AGRICULTURE

Farm Service Agency

Submission for OMB Review; Comment Request

November 4, 2015.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by December 10, 2015 will be considered. Written comments should be addressed to: Desk Officer for Agriculture, Office of Information and Regulatory Affairs, Office of Management and Budget (OMB), New Executive Office Building, 725 17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Farm Service Agency

Title: Measurement Service Records.

OMB Control Number: 0560-0260.

Summary of Collection: This collection of information is authorized by 7 CFR part 718 and described in FSA Handbook 2-CP. If a producer requests measurement services, it becomes necessary for the producer to provide certain information which is collected on the FSA-409, Measurement Service or 409 A, Measurement Service Request Register. The collection of this information is necessary to fulfill the producer's request for measurement services. Producers may request acreage or production measurement services.

Need and Use of the Information: The Farm Service Agency (FSA) will collect the following information that the producer is required to provide on the FSA-409 and FSA 409 A: farm serial number, program year, farm location, contact person, and type of service request (acreage or production). The collected information is used to create a record of measurement service requests and cost to the producer.

Description of Respondents: Farms.

Number of Respondents: 135,000.

Frequency of Responses: Reporting: On occasion; Weekly; Monthly.

Total Burden Hours: 168,750.

Farm Service Agency

Title: Biofuel Infrastructure Partnership (BIP) Grants to States.

OMB Control Number 0560-0284.

Summary of Collection: The Farm Service Agency (FSA) is administering the Biofuel Infrastructure Partnership (BIP) on behalf of the Commodity Credit Corporation (CCC). This information collection is needed for FSA to identify eligible States for blender pump funding to encourage increased ethanol use. FSA requires each State interested in a grant to submit an application to FSA on a form specified by FSA. States will be required to report on the funding distribution, which may require third party reporting depending how the States distribute the funds. FSA announced the availability of competitive grants to fund States, the Commonwealth of Puerto Rico, and Washington, DC with respect to activities designed to expand the infrastructure for renewable fuels. The goal is for grantees to provide funds on a one-to-one basis to receive matching CCC funds. The funding will be provided under the authority in section 5(e) of USDA's CCC Charter Act (15 U.S.C. 714c(e)).

Need and Use of the Information: The applicant will provide the following information in an objective work plan.to show logical connections between the different project elements: Project title, goal, year, objectives, problem statement, results expected, benefits expected, criteria for results and benefits expected, activities, position performing the activity, and time period. The information is used by FSA to determine whether participants meet the eligibility requirements to be a recipient of grant funds. BIP participants will provide to FSA a mid-year report that includes information on services provided during the preceding six months, and an annual report to FSA that includes the goals and accomplishments of the program, program activities and outcomes, and financial status report. Lack of adequate information to make the determination could result in the improper administration and appropriation of Federal grant funds.

Description of Respondents: State, Local or Tribal Government.

Number of Respondents: 36.

Frequency of Responses: Reporting: Annually.

Total Burden Hours: 540.

Ruth Brown,
Departmental Information Collection Clearance Officer.

[FR Doc. 2015-28540 Filed 11-9-15; 8:45 am]

BILLING CODE 3410-05-P